DEPARTMENT OF STATE

[Public Notice: 10115]

30-Day Notice of Proposed Information Collection: Medical Examination for Visa or Refugee Applicant

AGENCY: Department of State.

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to October 16, 2017.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents to PRA_Burdencomments@state.gov.

SUPPLEMENTARY INFORMATION:

• Title of Information Collection: Medical Examination for Visa or Refugee Applicant.

• OMB Control Number: 1405-0113.

• Type of Request: Revision of a Currently Approved Collection.

• Originating Office: CA/VO/L/R.

• Form Number: Forms DS-2054, DS-3030, DS-3025, DS-3026.

• Respondents: Immigrant and Refugees Applicants,

• Estimated Number of Respondents: 828,728.

• Estimated Number of Responses: 828,728.

• Average Time per Response: 1 hour.

• Total Estimated Burden Time: 828,728 annual hours.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Forms for this collection are completed by panel physicians for refugees, aliens seeking immigrant visas, and for some aliens seeking nonimmigrant visas to the United States. The collection records medical information necessary to determine whether refugees or visa applicants have medical conditions affecting the applicant's eligibility for a visa, or affecting the public health and requiring treatment.

Methodology: A panel physician, contracted by the consular post in accordance with instructions issued by the Centers for Disease Control (CDC), performs the medical examination of the applicant and completes the forms. Panel physicians follow Forms DS-3025, DS-3026, and DS-3030. Upon completing the applicant's medical examination, the examining panel physician submits a report to the consular officer on Form DS-2054.

Edward Ramotowski,
Deputy Assistant Secretary, Bureau of Consular Affairs, Department of State.

[FR Doc. 2017-19671 Filed 9-14-17; 8:45 a.m.]

BILLING CODE 4710-06-P